DEPARTMENT OF HOUSING AND URBAN DEVELOPMENT

[Docket No. FR-5683-N-97]

30-Day Notice of Proposed Information Collection: Section 3 Business Registry Pilot Program Participant and Recipients Surveys

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: December 4, 2013.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on August 22, 2013.

A. Overview of Information Collection

Title of Information Collection: Section 3 Business Registry Pilot Program Participant and Recipients Surveys.

OMB Approval Number: 2529-0053.

Type of Request: Extension without of a currently approved collection.

Form Number: HUD-968, HUD-969.

Description of the need for the information and proposed use: This information collection contains two surveys that will provide insights into the effectiveness of the Section 3 Business Registry and assess potential outcomes. This information may be useful to HUD for developing policies regarding the Section 3 Business Registry. This information collection will be limited to businesses that have self-certified their Section 3 eligibility to HUD and recipients of HUD funding (i.e., Public Housing Authorities and local government agencies). The surveys will be sent electronically to all certified businesses in the Section 3 Business Registry database and HUD funding recipients in an effort to produce the greatest amount of responses. Random sampling will not be used to identify potential respondents. Respondents will have a minimum of 60 days to respond to the surveys. Responding to these surveys is voluntary.

Respondents (i.e. affected public): Businesses that are either owned by, or substantially employ, low- or very low-income persons; low-income persons; developers; members of the general public; public housing agencies; and State and local governments.

Estimation of the total numbers of hours needed to prepare the information collection including number of respondents, frequency of response, and hours of response: At this time, there are approximately 800 businesses in the five pilot locations that have self-certified their eligibility with HUD and 150 HUD-funding recipients in the five pilot areas may complete the Section 3 surveys. It is estimated that each survey will take approximately 30 minutes to complete for a total of 475 hours.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapters 35.

Dated: October 29, 2013.
Colette Pollard,
Department Reports Management Officer, Office of the Chief Information Officer.

[FR Doc. 2013-26326 Filed 11-1-13; 8:45 am]

BILLING CODE 4210-67-P